COMMISSION ON CIVIL RIGHTS

Sunshine Act Meeting

Agency: U.S. Commission on Civil Rights.

Date and Time: Friday, December 12, 2003, 9:30 a.m.

Place: U.S. Commission on Civil Rights, 624 9th Street, NW., 20425.

Status:

Agenda

I. Approval of Agenda

II. Approval of Minutes of November 14, 2003 Meeting

III. Announcements

IV. Staff Director's Report

V. State Advisory Report: Minneapolis-St. Paul News Coverage of Minority Communities (Minnesota)

VI. Future Agenda Items

10 a.m. Briefing on Discerning Potential Patterns of Employment Discrimination: An Examination and Analysis of Federal Equal Employment Opportunity Data

FURTHER INFORMATION CONTACT: Les Jin, Press and Communications (202) 376-7700.

Debra A. Carr,
Deputy General Counsel.

[FR Doc. 03-30416 Filed 12-3-03; 4:17 pm]

BILLING CODE 6335-01-M